DEPARTMENT OF TRANSPORTATION

Federal Aviation Administration

14 CFR Part 71

[Docket No. FAA-2005-22509; Airspace Docket No. 03-AWA-2]

RIN 2120-AA66

Modification of the St. Louis Class B Airspace Area; MO

AGENCY: Federal Aviation Administration (FAA), DOT.

ACTION: Final rule; correction.

SUMMARY: This action corrects a final rule published in the Federal Register on February 15, 2006 (71 FR 7848), Airspace Docket No. 03-AWA-2, FAA Docket No. FAA-2005-22509. In that rule, inadvertent errors were made in the graphic depicting the modified St. Louis Class B airspace area. This action corrects those errors.

DATES: Effective Date: 0901 UTC, March 21, 2006.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

History

On February 15, 2006, a final rule was published in the Federal Register modifying the St. Louis Class B airspace area (71 FR 7848), Airspace Docket No. 03-AWA-2, FAA Docket No. FAA-2005-22509. In that final rule, inadvertent errors were made in area A of the attached graphic of the St. Louis Class B airspace area. Specifically, the altitudes for Area A were depicted as extending from the surface to and including 5,000 feet MSL (50/SFC) rather than from the surface to and including 8,000 feet MSL (80/SFC). Also, the 1.5 NM radius exclusion around Creve Coeur Airport was not depicted. This action replaces the graphic reflecting the correct altitudes for area A and the exclusion around the Creve Coeur Airport.

Correction to Final Rule

Accordingly, pursuant to the authority delegated to me, the graphic for the St. Louis Class B Airspace Area, as published in the Federal Register on February 15, 2006 (71 FR 7848), Airspace Docket No. 03-AWA-2, FAA Docket No. FAA-2005-22509, and incorporated by reference in 14 CFR 71.1, is corrected as follows:

§ 71.1 [Amended]

Paragraph 3000 Class B Airspace

* * * * *

ACE MO B St. Louis, MO [Corrected]

On page 7851, Area A, delete the graphic of the St. Louis, MO Class B Airspace Area, and insert the corrected graphic.

BILLING CODE 4910-13-P

* * * * *

Issued in Washington, DC, on March 10, 2006.
Edith V. Parish,
Manager, Airspace and Rules.

[FR Doc. 06-2672 Filed 3-20-06; 8:45 am]

BILLING CODE 4910-13-C